PRIVACY AND CIVIL LIBERTIES OVERSIGHT BOARD

[Notice—PCLOB-2013-04; Docket No. 2013-0004; Sequence No. 4]

Notice of Meeting

AGENCY: Privacy and Civil Liberties Oversight Board.

ACTION: Notice of a meeting.

SUMMARY: The Privacy and Civil Liberties Oversight Board will conduct a public workshop with invited experts, academics and advocacy organizations regarding surveillance programs operated pursuant to Section 215 of the USA PATRIOT Act and Section 702 of Foreign Intelligence Surveillance Act.

DATES: July 9, 2013 at 9:30 a.m.-4:30 p.m. (Eastern Time).

Comments: You may submit comments, identified by the docket number in the heading of this document by the following method:

• Federal eRulemaking Portal: Go to http://www.regulations.gov. Follow the on-line instructions for submitting comments.

• Written comments may be submitted at any time prior to the closing of the docket at 11:59 p.m. Eastern Time on August 1, 2013.

All comments will be made publicly available and posted without change. Do not include personal or confidential information.

ADDRESSES: Mayflower Renaissance Hotel Washington, 1127 Connecticut Ave. NW., Washington DC 20036. Facility's location is near Farragut North Metro station.

FOR FURTHER INFORMATION CONTACT: Susan Reingold, Chief Administrative Officer, 202-331-1986.

SUPPLEMENTARY INFORMATION:

Procedures for Public Participation

See also Federal Register at 78 FR 39021, published on June 28, 2013, for more information on workshop and the submission of comments. Docket number for comments is PCLOB-2013-0004.

The workshop will be open to the public. The Board is contemplating moderated panel discussions with invited experts, academics, and advocacy organizations. Individuals who plan to attend and require special assistance, such as sign language interpretation or other reasonable accommodations, should contact Susan Reingold, Chief Administrative Officer, 202-331-1986, at least 72 hours prior to the meeting date.

Dated: July 1, 2013.
Diane Janosek,
Chief Legal Officer, Privacy and Civil Liberties Oversight Board.

[FR Doc. 2013-16246 Filed 7-5-13; 8:45 am]

BILLING CODE 6820-B3-P